DEPARTMENT OF LABOR

Employment and Training Administration

Agency Information Collection Activities; Comment Request; the Employment and Training Administration Quick Turnaround Surveys

ACTION: Notice.

SUMMARY: The Department of Labor's (DOL's) Employment and Training Administration (ETA) is soliciting comments concerning a proposed extension for the authority to conduct the information collection request (ICR) titled, “Employment and Training Administration Quick Turnaround Surveys.” This comment request is part of continuing Departmental efforts to reduce paperwork and respondent burden in accordance with the Paperwork Reduction Act of 1995 (PRA).

DATES: Consideration will be given to all written comments received by March 23, 2020.

ADDRESSES: A copy of this ICR with applicable supporting documentation, including a description of the likely respondents, proposed frequency of response, and estimated total burden, may be obtained free by contacting Charlotte Schifferes by telephone at (202) 693-3655, TTY (202) 693-7755, (these are not toll-free numbers) or by email at schifferes.charlotte@dol.gov.

Submit written comments about, or requests for a copy of, this ICR by mail or courier to the U.S. Department of Labor, Employment and Training Administration, Office of Policy Development and Research, Attention: Charlotte Schifferes, 200 Constitution Avenue NW, Room N-5641, Washington, DC 20210; by email: schifferes.charlotte@dol.gov; or by Fax (202) 693-2766.

FOR FURTHER INFORMATION CONTACT: Charlotte Schifferes by telephone at (202) 693-3655 (this is not a toll-free number) or by email at schifferes.charlotte@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA is soliciting comments regarding a revision and extension of a currently approved generic information collection. The collection would allow for a quick review process by OMB, over the next three years, of a series of 8 to 20 short surveys relevant to the broad spectrum of programs administered by ETA, including those authorized by the Workforce Innovation and Opportunity Act (WIOA) of 2014 and other statutes. The surveys would cover a variety of issues, including but not limited to the governance, administration, funding, service design, and delivery structure in programs. Each survey would be short (typically 10-30 questions) and, depending on the nature of the survey, may be administered to state workforce agencies, local workforce boards, American Job Centers, employment service offices, or other entities involved in employment and training or related activities relevant to ETA. Each survey will be designed on an ad hoc basis and will focus on topics of pressing policy or research interest. Examples of broad topic areas include but are not limited to:

• State and local management information systems,

• New processes and procedures,

• Services to different target groups,

• Integration and coordination with other programs, and

• Local workforce investment board membership and training.

ETA is seeking an extension and revision of the current collection in order to fulfill a continuing need to conduct these “quick turnaround” surveys in order to obtain timely information that identifies the nature, scope and magnitude of various practices or problems, and to meet its obligations to develop high quality policy, research, administrative guidance, regulations, and technical assistance. ETA will request data in these surveys that are not otherwise available. Other research and evaluation efforts, including case studies or long-range evaluations, either cover only a limited number of sites or take many years for data to be gathered and analyzed. Administrative information, including quarterly or annual data reported by states and local areas do not provide information on key operational practices and issues of interest. Thus, ETA has no alternative mechanism for collecting information that identifies the scope and magnitude of emerging issues and provides the information on a quick turnaround basis. ETA will make every effort to coordinate the “quick turnaround” surveys with other data collections in ETA or other parts of the Department of Labor, in order to ease the burden on local, state, and other respondents, to avoid duplication, and to fully explore how interim data and information from each study can be used to inform other studies. Information from the quick turnaround surveys will complement but not duplicate other ETA reporting requirements or evaluation studies. Section 169 of WIOA), P.L. 113- 128, authorizes this information collection for both evaluations [Section 169 (a)] and research activities [Section 169 (b)].

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0436.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revison of Currently Approved Collection.

Title of Collection: Employment and Training Administration Quick Turnaround Surveys.

Form: Not Applicable.

OMB Control Number: 1205-0436.

Affected Public: State, Local, and Tribal Governments; Private Sector—businesses or other for-profit and not-for profit institutions.

Estimated Number of Respondents: 7,000.

Frequency: Various.

Total Estimated Annual Responses: 2,333.

Estimated Average Time per Response: Varies.

Estimated Total Annual Burden Hours: 2,500 hours.

Total Estimated Annual Other Cost Burden: $0.

Authority: 44 U.S.C. 3506(c)(2)(A).

John Pallasch,
Assistant Secretary for Employment and Training, Labor.

[FR Doc. 2020-00911 Filed 1-21-20; 8:45 am]

BILLING CODE 4510-FM-P